DEPARTMENT OF AGRICULTURE

Submission for OMB Review; Comment Request

April 24, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 29, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Eggplant from Israel.

OMB Control Number: 0579-0350.

Summary of Collection: Under the Plant and Protection Act (7 U.S.C. 7701), the Secretary of Agriculture is authorized to carry out operation or measures to detect, eradicate, suppress, control, prevent, or retard the spread of plant pests new to the United States not known to be widely distributed throughout the United States. APHIS' fruits and vegetables regulations allow the importation of commercial shipments of fresh eggplant from Israel. As a condition of entry, the eggplant must be grown under a system approach that would include requirements for pest exclusion at the production site, fruit fly trapping inside and outside the production site, and pest-excluding packinghouse procedures.

Need and Use of the Information: APHIS uses the following information activities to allow for the importation of commercial consignments of fresh eggplant from Israel into the United States while continuing to provide protection against the introduction of quarantine pests: Trapping Records, Labeling of Boxes, Inspection and Approval of Pest-Exclusionary Structures, Phytosanitary Certificates, Grower Registrations, Pest Detection Notification, Treatment Approvals, Emergency Action Notification, and Notice of Arrival. Failure to collect this information would cripple APHIS' ability to ensure that eggplant from Israel is not carrying plant pests.

Description of Respondents: Foreign Federal Government, Business and other for-profit.

Number of Respondents: 4.

Frequency of Responses: Reporting; Third Party Disclosure; Recordkeeping: On occasion.

Total Burden Hours: 180.

Ruth Brown,
Departmental Information Collection Clearance Officer.

[FR Doc. 2018-08927 Filed 4-26-18; 8:45 am]

BILLING CODE 3410-34-P